DEPARTMENT OF COMMERCE

International Trade Administration

[A-533-809]

Partial Rescission of Antidumping Duty Administrative Review: Certain Forged Stainless Steel Flanges from India

AGENCY: Import Administration, International Trade Administration, Department of Commerce.

EFFECTIVE DATE: July 27, 2007.

FOR FURTHER INFORMATION CONTACT: Fred Baker or Robert James, AD/CVD Operations, Office 7, Import Administration, International Trade Administration, U.S. Department of Commerce, 14th Street and Constitution Avenue, NW., Washington, DC 20230; telephone: (202) 482-2924 or (202) 482-0649, respectively.

SUPPLEMENTARY INFORMATION:

Background

On February 2, 2007, the Department of Commerce (the Department) published in the Federal Register a notice of “Opportunity to Request Administrative Review” of the antidumping duty order on certain forged stainless steel flanges (stainless steel flanges) from India for the period February 1, 2006, through January 31, 2007. See Antidumping or Countervailing Duty Order, Finding, or Suspended Investigation; Opportunity to Request Administrative Review, 72 FR 5007 (February 2, 2007). On February 20, 2007, Echjay Forgings Pvt., Ltd. (Echjay) requested an administrative review of its U.S. sales that were subject to the antidumping duty order for this period. On February 23, 2007, Hilton Metal Forging Ltd. (Hilton) requested an administrative review of its U.S. sales that were subject to the antidumping duty order for this period. The Department also received requests for an administrative review from Nakshatra Enterprises Pvt., Ltd., and Shree Ganesh Forgings, Ltd. On March 28, 2007, the Department published a notice of initiation of an administrative review of the antidumping duty order on stainless steel flanges from India with respect to these companies. See Initiation of Antidumping and Countervailing Duty Administrative Reviews, 72 FR 14516, 14517 (March 28, 2007).

Partial Rescission of Review

On April 11, 2007 Hilton withdrew its request for an administrative review of its sales during the above-referenced period. On April 19, 2007, Echjay withdrew its request for an administrative review of its sales during the above-referenced period. Pursuant to 19 CFR 351.213(d)(1), the Secretary will rescind an administrative review, in whole or in part, if the party who requested the review withdraws the request within ninety days of the date of publication of notice of initiation of the requested review. Because Hilton and Echjay withdrew their requests for review within the 90-day period and no other party requested a review of their sales, in accordance with 19 CFR 351.213(d)(1), we are rescinding this review with respect to Hilton and Echjay.

The Department will issue appropriate appraisement instructions directly to the U.S. Customs and Border Protection (CBP) 15 days after the publication of this notice. The Department will direct CBP to assess antidumping duties at the cash deposit rate in effect on the date of entry for entries of subject merchandise produced and/or exported by Hilton or Echjay during the period February 1, 2006, through January 31, 2007.

This notice is published in accordance with section 777(i)(1) of the Tariff Act of 1930, as amended, and 19 CFR 351.213(d)(4).

Dated: July 20, 2007.
Stephen J. Claeys,
Deputy Assistant Secretary for Import Administration.

[FR Doc. E7-14596 Filed 7-26-07; 8:45 am]

BILLING CODE 3510-DS-S